FEDERAL COMMUNICATIONS COMMISSION

[FR ID 91318]

Deletion of Items From June 8, 2022 Open Meeting

June 8, 2022.

The following items were adopted and released by the Commission on June 6, 2022 and deleted from the list of items scheduled for consideration at the Wednesday, June 8, 2022, Open Meeting. These items were previously listed in the Commission's Sunshine Notice on Wednesday, June 1, 2022.

3 | Media | Title: Preserving Local Radio Programming (MB Docket No. 03-185). Summary: The Commission will consider a Notice of Proposed Rulemaking regarding a proposal to allow certain channel 6 low power television stations to continue to provide FM radio service as ancillary or supplementary service under specified conditions.
5 | Wireline Competition | Title: Affordable Connectivity Program Transparency Data Collection (WC Docket No. 21-450). Summary: The Commission will consider a Notice of Proposed Rulemaking seeking comment on a statutorily mandated annual data collection relating to the price and subscription rates of internet service offerings received by households enrolled in the Affordable Connectivity Program from participating providers.

Federal Communications Commission.
Marlene Dortch,
Secretary.

[FR Doc. 2022-12690 Filed 6-10-22; 8:45 am]

BILLING CODE 6712-01-P